DEPARTMENT OF THE INTERIOR

Bureau of Land Management

[WY-920-09-1320-EL, WYW151133]

Belle Ayr 2000 Tract, Wyoming

AGENCY: Bureau of Land Management, Interior.

ACTION: Notice of competitive coal lease sale.

SUMMARY: Notice is hereby given that certain coal resources in the Belle Ayr 2000 Tract described below in Campbell County, Wyoming will be offered for competitive lease by sealed bid in accordance with the provisions of the Mineral Leasing Act of 1920, as amended (30 U.S.C. 181 et seq.).

DATES: The lease sale will be held at 2 p.m., on Thursday, October 11, 2001. Sealed bids must be submitted on or before 4 p.m., on Wednesday, October 10, 2001.

ADDRESSES: The lease sale will be held in the First Floor Conference Room (Room 107) of the BLM, Wyoming State Office, 5353 Yellowstone Road, P.O. Box 1828, Cheyenne, Wyoming 82003. Sealed bids must be submitted to the Cashier, BLM, Wyoming State Office, at the address given above.

FOR FURTHER INFORMATION CONTACT: Julie Weaver, Land Law Examiner, or Melvin Schlagel, Coal Coordinator, at 307-775-6260 and 307-775-6257, respectively.

SUPPLEMENTARY INFORMATION: The coal estate of the Belle Ayr 2000 tract, Serial Number WYW151133, is being offered in response to a lease by application (LBA) request for a competitive sale filed by RAG Wyoming Land Company, a subsidiary of RAG American Coal Company. The application was filed on July 28, 2000, and was approved for processing as a maintenance tract by the Powder River Regional Coal Team on October 25, 2000. The tract is located in Campbell County approximately 11 miles south of Gillette, Wyoming, and is crossed by Bishop Road about 3 miles east of State Highway 59.

T.48 N., R. 71 W., 6th P.M., Wyoming

Sec. 28: Lots 3-6;

Sec. 29: Lots 1 and 6.

Containing 243.61 acres

All of the acreage offered has been determined to be suitable for mining assuming that Bishop Road is moved as planned. The surface estate of the tract is completely controlled by the applicant. There are no oil and gas wells on the tract but these rights are privately owned and are not included in this coal lease.

The tract is within the mine permit area for the Belle Ayr mine and contains surface mineable coal reserves in one primary seam currently being recovered at this mine. The in-place Wyodak seam averages about 76 feet thick on the LBA while the overburden averages about 192 feet thick.

The Belle Ayr LBA coal is ranked as subbituminous C. The overall average quality of the in-place reserves is 8490 BTU/lb., 30% moisture, 4.75% ash, 0.35% sulfur, and 1.02% sodium in the ash. These quality averages place the coal reserves near the middle of the range of coal quality currently being mined in the southern Powder River Basin in Campbell County.

The tract contains an estimated 31.4 million tons of mineable coal in the Wyodak seam. This estimate of reserves does not include any tonnage from localized seams or splits containing less than 5 feet of coal. Potential bidders must reduce this estimate to account for mining losses associated with thick seam recovery. The stripping ratio for the mineable reserves is approximately 3.0:1 (BCY/Ton).

The tract will be leased to the qualified bidder of the highest cash amount provided that the high bid equals the fair market value of the tract and other applicable requirements are met. The minimum bid for the tract is $100 per acre or fraction thereof. No bid that is less than $100 per acre, or fraction thereof, will be considered. The bids should be sent by certified mail, return receipt requested, or be hand delivered. The Cashier will issue a receipt for each hand-delivered bid. Bids received after 4 p.m., on Wednesday, October 10, 2001, will not be considered. The minimum bid is not intended to represent fair market value. The fair market value of the tract will be determined by the Authorized Officer after the sale.

The lease issued as a result of this offering will provide for payment of an annual rental of $3 per acre, or fraction thereof, and of a royalty payment to the United States of 12.5 percent of the value of coal produced by strip or auger mining methods and 8 percent of the value of the coal produced by underground mining methods. The value of the coal will be determined in accordance with 30 CFR 206.250.

Bidding instructions for the tract offered and the terms and conditions of the proposed coal lease are available from the BLM, Wyoming State Office at the addresses above. Case file documents, WYW151133, are available for inspection at the BLM, Wyoming State Office.

Dated: August 1, 2001.
Alan Rabinoff,
Deputy State Director, Minerals and Lands.

[FR Doc. 01-20777 Filed 9-7-01; 8:45 am]

BILLING CODE 4310-22-P